DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before July 21, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Lawrence D. Reynolds, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-025-C.

Petitioner: ICG Beckley, LLC, P.O. Box 49, Eccles, West Virginia 25836.

Mine: Beckley Pocahontas Mine, MSHA I.D. No. 46-05252, located in Raleigh County, West Virginia.

Regulation Affected: 30 CFR 75.1101-1(b) (Deluge-type water spray systems).

Modification Request: The petitioner requests a modification of the existing standard to permit blow-off dust covers to be eliminated for nozzles on deluge-type water spray systems. The petitioner states that: (1) Functional tests as required under 30 CFR 75.1101-1 will be done weekly instead of annually; (2) functional tests are currently being done weekly and although more than adequate pressure and flow rates are maintained for the deluge system, in some tests the dust covers do not come off all sprays; (3) by doing the functional tests weekly, all sprays can be inspected and maintained on a weekly basis; and (4) the dust covers provide protection for sprays which are tested yearly and by testing weekly, the covers are not necessary. The petitioner asserts that the proposed alternative method will provide no less than the same measure of protection than would be provided under the existing standard.

Docket Number: M-2008-026-C.

Petitioner: Hardway Coal Company, Inc., 44 Keystroke Lane, Schuylkill Haven, Pennsylvania 17972.

Mine: Serill Mine, MSHA I.D. No. 36-07730, located in Schuylkill County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Docket Number: M-2008-027-C.

Petitioner: Black Diamond Mining, Inc., P.O. Box 139, Elysburg, Pennsylvania 17824.

Mine: Sioux Bank Operation, MSHA I.D. No. 36-08822, located in Northumberland County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Docket Number: M-2008-028-C.

Petitioner: Premium Fine Coal, Inc., P.O. Box 2043, Hazleton, Pennsylvania 18201.

Mine: Schuylkill Twp. Strip Operation, MSHA I.D. No. 36-08681, located in Schuylkill County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Docket Number: M-2008-029-C.

Petitioner: Rossi Excavating Company, 9 West 15th Street, Hazelton, Pennsylvania 18201.

Mine: Coleraine Operation, MSHA I.D. No. 36-09176, located in Carbon County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Docket Number: M-2008-030-C.

Petitioner: Park Mine Coal Company, 294 Pine Creek Drive, Orwigsburg, Pennsylvania 17961.

Mine: Park Mine, MSHA I.D. No. 36-09304, located in Schuylkill County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800's thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, and therefore, are not subject to changes during the life of the mine, but active mines will be mapped. The petitioner asserts that the proposed alternative method will in no way provide less than the same measure of protection than that afforded the miners under the existing standard.

Jack Powasnik,
Deputy Director, Office of Standards, Regulations, and Variances.

[FR Doc. E8-13813 Filed 6-18-08; 8:45 am]

BILLING CODE 4510-43-P